DEPARTMENT OF COMMERCE

National Oceanic and Atmospheric Administration

[RTID 0648-XB778]

Marine Mammals; File No. 22187

AGENCY: National Marine Fisheries Service (NMFS), National Oceanic and Atmospheric Administration (NOAA), Commerce.

ACTION: Notice; withdrawal of application; receipt of application for permit amendment.

SUMMARY: Notice is hereby given that Heather E. Liwanag, Ph.D., 1 Grand Avenue, San Luis Obispo, CA 93407-0401, has withdrawn her application for a major amendment and has applied for a revised amendment to Scientific Research Permit No. 22187-02.

DATES: Written, telefaxed, or email comments must be received on or before March 7, 2022.

ADDRESSES: The application and related documents are available for review by selecting “Records Open for Public Comment” from the “Features” box on the Applications and Permits for Protected Species (APPS) home page, https://apps.nmfs.noaa.gov, and then selecting File No. 22187 from the list of available applications. These documents are also available upon written request via email to NMFS.Pr1Comments@noaa.gov.

Written comments on this application should be submitted via email to NMFS.Pr1Comments@noaa.gov. Please include File No. 22187 in the subject line of the email comment.

Those individuals requesting a public hearing should submit a written request via email to NMFS.Pr1Comments@noaa.gov. The request should set forth the specific reasons why a hearing on this application would be appropriate.

FOR FURTHER INFORMATION CONTACT: Sara Young or Shasta McClenahan, Ph.D., (301) 427-8401.

SUPPLEMENTARY INFORMATION: The subject amendment to Permit No. 22187-02 is requested under the authority of the Marine Mammal Protection Act of 1972, as amended (16 U.S.C. 1361 et seq.) and the regulations governing the taking and importing of marine mammals (50 CFR part 216).

On November 18, 2021, notice was published in the Federal Register (86 FR 64457) that a request for an amendment to a scientific research permit for research on northern elephant seals (Mirounga angustirostris) had been submitted by the above-named applicant. Following the close of the public comment period, the applicant made several substantive changes to the amendment request; therefore, the original request has been withdrawn from further consideration and a revised amendment request has been submitted.

Permit No. 22187-02, issued on December 13, 2021, authorizes the permit holder to conduct research to establish a catalog of known individual northern elephant seals along the California coast. Types of authorized takes include behavioral observations, measurements, bioacoustic recordings, acoustic playbacks, marking, flipper tagging, capture, and non-invasive physiological sampling. The permit holder is requesting the permit be amended to include authorization for 25 additional takes of northern elephant seals per year at two locations in California. Each animal would be handled up to three times per year. At first handling, each animal will be flipper tagged. At the second handling, each animal will be captured by hand or net, sedated and fitted with satellite transmitters, in addition to the physiological sampling already authorized. At the third handling, approximately three months later, animals would be recaptured to remove the instruments. Five additional takes are requested for animals that are captured and released because they are not appropriate candidates for the study. An additional 200 harbor seal (Phoca vitulina) takes and 185 elephant seal takes are requested annually for unintentional harassment during these activities. The permit holder is requesting two mortalities, an increase in the number of annual mortalities from one animal to two, but the total number of mortalities (five) allowed across the life of the permit will not change. The permit would remain valid until March 31, 2024.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: February 1, 2022.
Julia M. Harrison,
Chief, Permits and Conservation Division, Office of Protected Resources, National Marine Fisheries Service.

[FR Doc. 2022-02420 Filed 2-3-22; 8:45 am]

BILLING CODE 3510-22-P